EXPORT-IMPORT BANK

[Public Notice: 2024-3010]

Agency Information Collection Activities: Submission to the Office of Management and Budget for Review and Approval; Comment Request; Export-Import Bank Report of Premiums Payable for Exporters Only

AGENCY: Export-Import Bank of the United States.

ACTION: Notice of information collection; request for comment.

SUMMARY: The Export-Import Bank of the United States (EXIM), pursuant to the Export-Import Bank Act of 1945, as amended, facilitates the finance of the export of U.S. goods and services. As part of its continuing effort to reduce paperwork and respondent burden, EXIM invites the general public and other Federal Agencies to comment on the proposed information collection, as required by the paperwork Reduction Act of 1995.

DATES: Comments must be received on or before August 9, 2024 to be assured of consideration.

ADDRESSES: Comments may be submitted electronically on www.regulations.gov (EIB 92-29), by email to Cristina.Conti@exim.gov, or by mail to Office of Information and Regulatory Affairs, 725 17th Street NW, Washington, DC 20038, Attn: OMB 3048-0017.

FOR FURTHER INFORMATION CONTACT: To request additional information, please contact Cristina Conti, Cristina.conti@exim.gov, 202-565-3804.

SUPPLEMENTARY INFORMATION: The “Report of Premiums Payable for Exporters Only” form is used by exporters to report and pay premiums on insured shipments to various foreign buyers under the terms of the policy and to certify that premiums have been correctly computed and remitted. Individual transactions that an exporter may have with the same foreign borrower can be sub-totaled and entered as a single line item for the specific month provided the length of payment term is identical. The use of sub-totals reduces the administrative burden on the exporter. The `Report of Premiums Payable for Exporters Only' is used by the Bank to determine the eligibility of the shipment(s) and to calculate the premium due to Ex-Im Bank for its support of the shipment(s) under its insurance program.

No changes are being made to the form in use.

The application tool can be reviewed at: https://img.exim.gov/s3fs-public/forms/eib92-29.pdf.

Title and Form Number: EIB 92-29 Export-Import Bank Report of Premiums Payable for Exporters Only.

OMB Number: 3048-0017.

Type of Review: Regular.

Need and Use: The “Report of Premiums Payable for Exporters Only” form is used by exporters to report and pay premiums on insured shipments to various foreign buyers under the terms of the policy and to certify that premiums have been correctly computed and remitted. The collection provides EXIM staff with the information necessary to monitor the borrower's payments for exported goods covered under its short and medium-term export credit insurance policies. It also alerts EXIM staff of defaults, so they can manage the portfolio in an informed manner.

Affected Public: This form affects entities involved in the export of U.S. goods and services.

Annual Number of Respondents: 2,000.

Estimated Time per Respondent: 15 minutes.

Annual Burden Hours: 6,000 hours.

Frequency of Reporting or Use: Monthly.

Dated: July 5, 2024.
Andrew Smith,
Records Officer.

[FR Doc. 2024-15121 Filed 7-9-24; 8:45 am]

BILLING CODE 6690-01-P